DEPARTMENT OF ENERGY

Federal Energy Regulatory Commission

[Docket No. OR05-4-000]

BP West Coast Products LLC and ExxonMobile Oil Corporation, Complainants v. SFPP, LP, Respondents; Notice of Complaint

December 23, 2004.

Take notice that on December 22, 2004, BP West Coast Products LLC (BP) and ExxonMobil Oil Corporation (ExxonMobile) (collective, Complainants) tendered for filing their Fourth Original Complaint against SFPP, L.P. Complainants allege that SFPP's West Line Watson Vapaor Recovery Charge, Sepulveda Line, North Line, Oregon Line and East Line rates are unjust and unreasonable. Complainants request that the Commission review and investigate SFPP's rates; set the proceeding for an evidentiary hearing to determine just and reasonable rates for SFPP; require SFPP to pay reparations starting two years before the date of complaint for all rates; consolidate this proceeding with the complaint proceeding in Docket No. OR4-3; and award such other relief as is necessary and appropriate under the Interstate Commerce Act.

Complainants state that copies of the complaint were served on SFPP, L.P.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: January 11, 2005.

Linda Mitry,
Deputy Secretary.

[FR Doc. E4-3885 Filed 12-29-04; 8:45 am]

BILLING CODE 6717-01-P